DEPARTMENT OF VETERANS AFFAIRS

[OMB Control No. 2900-New (10-21083 series)]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before August 23, 2007.

ADDRESSES: Submit written comments on the collection of information through http://www.Regulations.gov; or to VA's OMB Desk Officer, OMB Human Resources and Housing Branch, New Executive Office Building, Room 10235, Washington, DC 20503 (202) 395-7316. Please refer to “OMB Control No. 2900-New (10-21083 series)” in any correspondence.

For Further Information or a Copy of the Submission Contact: Denise McLamb, Records Management Service (005G2), Department of Veterans Affairs, 810 Vermont Avenue, NW., Washington, DC 20420, (202) 565-8374, FAX (202) 565-7870 or e-mail: denise.mclamb@mail.va.gov. Please refer to “OMB Control No. 2900-New (10-21083 series).”

SUPPLEMENTARY INFORMATION: Title: Pilot of the Hospital Consumer Assessment of Health Plan Survey (HCAHPS) and Survey of Healthcare Experiences of Patients (SHEP) Satisfaction Survey Instruments, VA Forms 10-21083a through 10-21083e.

OMB Control Number: 2900-New (10-21083 series).

Type of Review: New collection.

Abstract: VA will conduct a series of five pilots to better understand how the Hospital Consumer Assessment of Health Plan Survey (HCAPHS) questionnaire (either alone or combined with all or part of VA's Survey of Healthcare Experiences of Patients (SHEP) survey) will perform in measuring patient satisfaction, and how hospitalized veteran patients will respond to healthcare related questions using the HCAHPS questionnaire.

An agency may not conduct or sponsor, and a person is not required to respond to a collection of information unless it displays a currently valid OMB control number. The Federal Register Notice with a 60-day comment period soliciting comments on this collection of information was published on July 13, 2006, at page 39704.

Affected Public: Individuals or households.

Estimated Annual Burden: 3,625 hours.

a. 10-21083a—362.50 hours.

b. 10-21083b—725 hours.

c. 10-21083c—1,087.50 hours.

d. 10-21083d—725 hours.

e. 10-21083e—725 hours.

Estimated Average Burden Per Respondent:

a. 10-21083a—15 minutes.

b. 10-21083b—30 minutes.

c. 10-21083c—45 minutes.

d. 10-21083d—30 minutes.

e. 10-21083de—30 minutes.

Frequency of Response: Semi-annual.

Estimated Number of Respondents: 7,250.

a. 10-21083a—1,450.

b. 10-21083b—1,450.

c. 10-21083c—1,450.

d. 10-21083d—1,450.

e. 10-21083de—1,450.

Dated: June 29, 2007.
By direction of the Secretary.
Denise McLamb,
Program Analyst, Records Management Service.

[FR Doc. E7-14199 Filed 7-23-07; 8:45 am]

BILLING CODE 8320-01-P